DEPARTMENT OF THE INTERIOR

Bureau of Land Management

[NV-025-1610-DO]

Notice of Intent To Prepare a Resource Management Plan for the Black Rock Desert-High Rock Canyon Emigrant Trails National Conservation Area, et al.; Nevada

AGENCY: Bureau of Land Management, Winnemucca (Nevada) and Surprise (California) Field Offices, Department of the Interior.

ACTION: Notice of intent to prepare a Resource Management Plan for the Black Rock Desert-High Rock Canyon Emigrant Trails National Conservation Area, (NCA) and associated wilderness, and other contiguous lands in Nevada.

SUMMARY: The Bureau of Land Management (BLM) Winnemucca and Surprise Field Offices will jointly prepare a RMP and an Environmental Impact Statement (EIS) for the recently designated Black Rock Desert-High Rock Canyon Emigrant Trails NCA and associated wilderness areas, designated by the Black Rock Desert-High Rock Canyon Emigrant Trails National Conservation Area Act of 2000 (Pub. L. 106-554, December 21, 2000). The following contiguous areas also will be addressed in the plan: (1) The Lahontan Cutthroat Trout Instant Study Area (ISA) and a small area of BLM administered public lands located west of the ISA between the ISA and the Summit Lake Indian Reservation, both of which are contiguous to the northern edge of the NCA; and (2) the southern part of the Black Rock Desert Playa (South Playa), which is contiguous to the southern edge of the NCA.

The planning area encompasses approximately 1,217,500 acres of public land, located in Humboldt, Pershing, and Washoe counties in northwestern Nevada. These public lands are jointly managed by the BLM Winnemucca and Surprise Field Offices. The RMP will be based on statutory requirements and will meet the requirements of the Federal Land Policy and Management Act (FLPMA) of 1976, the Wilderness Act of 1964, the Black Rock Desert-High Rock Canyon Emigrant Trails National Conservation Area Act of 2000, and other applicable provisions of law. The RMP will guide BLM's management actions within the NCA, wilderness, and identified contiguous areas. The BLM will work closely with interested parties to identify the management decisions that are best suited to the needs of the public. This collaborative process will take into account local, regional, and national needs and concerns. This notice initiates the public scoping process to identify planning issues and to develop planning criteria.

DATES: In compliance with the enabling legislation (Black Rock Desert-High Rock Canyon Emigrant Trails National Conservation Area Act of 2000 (Pub. L. 106-554, December 21, 2000)), the plan must be completed by December 20, 2003. The public is encouraged to participate in the planning process, beginning with the identification of issues and planning criteria. The scoping comment period will commence with the publication of this notice. Formal scoping will end 60 days after publication of this notice. Comments on issues and planning criteria would be most helpful if received on or before the end of the scoping period. Public participation activities, including scoping meetings to identify issues and planning critieria, will be announced at least 15 days before the scheduled meeting in the local news media and in notices sent to persons and parties on the mailing list. In order to ensure local community participation, public meetings will be rotated among locations including, but not necessarily limited to Cedarville, California, and Gerlach, Reno, and Winnemucca, Nevada. In audition to the ongoing public participation process and the scoping meetings, formal opportunities for public participation will be provided through comment on the alternatives and upon publication of the draft RMP/draft EIS. A web site will also be established to display updated information to the public and to provide a means for submission of public comments via e-mail. Persons who would like to be placed on mailing lists, should notify the Winnemucca or Surprise Field Offices at the addresses listed below, or call (775) 623-1500.

ADDRESSES: Written comments should be sent to the attention of the NCA Resource Management Plan Project Manager, 5100 East Winnemucca Boulevard, Winnemucca, Nevada 89445, Phone (775) 623-1500. Comments, including names and street addresses of respondents, may be published as part of the EIS. Individual respondents may require confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

A map of the planning area is available at the Winnemucca Field Office (address and phone number listed above); the Surprise Field Office, 602 Cressler Street, Cedarville, CA 96104, Phone (530) 279-6101; the Nevada State Office, 1340 Financial Blvd., Reno, NV 89502, Phone (775) 861-6400; and at the California State Office, 2800 Cottage Way, Suite W-1834, Sacramento, CA 95825-1886, Phone (916) 978-4600.

FOR FURTHER INFORMATION CONTACT: Terry Reed, Field Office Manager or Roger Farschon, Acting NCA Manager, at the Winnemucca Field Office, Phone (775) 623-1500 or the Acting Surprise Field Office Manager, Phone (530) 279-6101.

SUPPLEMENTARY INFORMATION: The RMP will determine management of approximately 1,217,500 acres of federally administered public lands including: the Black Rock Desert-High Rock Canyon Emigrant Trails NCA (Approximately 800,100 acres), ten associated wilderness areas (approximately 757,100 acres), the Lahontan Cutthroat Trout ISA (approximately 13,400 acres) and a small area of BLM administered public lands located west of the ISA between the ISA and the Summit Lake Indian Reservation (approximately 2,300 acres), and the southern portion of the Black Rock Desert Playa (South Playa) (approximately 24,100 acres). Approximately 379,500 acres of wilderness are located within the boundaries of the NCA.

The public is asked to assist the BLM with the identification of issues related to management of the planning area, including the NCA and wilderness. Preliminary issues and management concerns have been identified by BLM personnel, other agencies, and in meetings with individuals and user groups. Anticipated issues include, but are not limited to the following: how will natural, cultural, and wilderness resources be protected?; how can visitor use, access and safety best be achieved?; how will NCA management be integrated with other agency and community plans and needs?; and what facilities and infrastructure are needed to provide visitor services and administration of the NCA? After gathering public comments on what issues the plan should address, the suggested issues will be placed in one of three categories: (1) Issues to be resolved in the plan; (2) issues resolved through policy or administrative action; and (3) issues beyond the scope of the plan. BLM will provide feedback to the public on the final issues to be addressed in the plan. An interdisciplinary approach will be used to develop the plan in order to consider the variety of resource issues and concerns identified. Disciplines involved in the planning process will include specialists with expertise in rangeland management, minerals and geology, forestry, outdoor recreation, archaeology, paleontology, wildlife and fisheries, land and realty, hydrology, soils, sociology, and economics.

Plan development will involve close cooperation with the State of Nevada, tribal, county and municipal governments, federal agencies, and interested groups, agencies, and individuals. The Resource Advisory Councils (RACs) for the planning area, the Sierra Front-Northwestern Great Basin RAC and the Northeast California RAC, will be used to provide additional public input. Consistent with the enabling legislation, the plan for the NCA and associated wilderness areas will emphasize the protection and enhancement of the NCA's and wilderness areas' resource values while providing the public with opportunities for compatible recreation activities. The plan for the specified contiguous areas will emphasize management consistent with applicable laws and regulations. The concerns and interest of area residents, including the activities of recreation, grazing, hunting, trapping, mining, energy development, and access will be addressed in the plan.

The Plan will incorporate appropriate decisions from existing BLM plans such as current management plans for the area. It also will use information developed and management alternatives proposed in previous studies of the lands within or adjacent to the NCA (including the Draft Sonoma-Gerlach/Paradise Denio Plan Amendment).

Terry A. Reed,
Field Manager, Winnemucca, Nevada.

[FR Doc. 01-30223 Filed 12-5-01; 8:45 am]

BILLING CODE 4310-HC-M